AGENCY FOR INTERNATIONAL DEVELOPMENT

Notice of Public Information Collections Being Reviewed by the U.S. Agency for International Development; Comments Requested

SUMMARY: U.S. Agency for International Development (USAID) is making efforts to reduce the paperwork burden. USAID invites the general public and other Federal agencies to take this opportunity to comment on the following proposed and/or continuing information collections, as required by the Paperwork Reduction Act for 1995. Comments are requested concerning: (a) Whether the proposed or continuing collections of information are necessary for the proper performance of the functions of the agency, including whether the information shall have practical utility; (b) the accuracy of the burden estimates; (c) ways to enhance the quality, utility, and clarity of the information collected; and (d) ways to minimize the burden of the collection of information on the respondents, including the use of automated collection techniques or other forms of information technology.

DATES: Submit comments on or before February 19, 2013.

FOR FURTHER INFORMATION CONTACT: Sylvia Joyner, Bureau for Management, Office of Management Services, Information and Records Division, U.S. Agency for International Development, Room 2.07C, RRB, Washington, DC 20523, (202) 712-5007 or via email sjoyner@usaid.gov.

ADDRESSES: Send comments via email at tdebnam@usaid.gov, United States Agency for International Development, Office of Security, Ronald Reagan Building, 1300 Pennsylvania Avenue NW., Room 2.06-012, Washington, DC 20523, 202-712-1752.

SUPPLEMENTARY INFORMATION:

OMB No: OMB 0412-0549.

Form No.: AID 566-01, AID 566-02, AID 566-03, AID 566-04, and AID 566-05,

Title: Residence, Employment, and Personal Reference Inquiry Type of Review: Reinstatement of Information Collection.

Purpose: USAID is required by Executive order that Background investigations be conducted on all persons entering Federal Service. 5 U.S.C. 3301 and 5 CFR 5.2 require that investigations and determinations be made concerning the qualifications and fitness of applicants for federal employment. A National Agency Check and written inquiries are the minimum investigation required for employment in any department or agency of the Government as prescribed in Section 3(a) of the Executive Order 10450.

Annual Reporting Burden

Respondents: 8976.

Total annual responses: 6552.

Total annual hours requested: 46 hours.

Dated December 11, 2012.
Lynn Winston,
Division Chief Bureau for Management, Office of Management Services, Information and Records Division.

[FR Doc. 2012-30612 Filed 12-18-12; 8:45 am]

BILLING CODE 6116-01-P